JUDICIAL CONFERENCE OF THE UNITED STATES

Advisory Committee on Criminal Rules; Hearing of the Judicial Conference

AGENCY: Judicial Conference of the United States, Advisory Committee on the Federal Rules of Criminal Procedure.

ACTION: Notice of cancellation of open hearing.

SUMMARY: The following remote public hearing on proposed amendments to the Federal Rules of Criminal Procedure has been canceled: Criminal Rules Hearing on January 25, 2021.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

SUPPLEMENTARY INFORMATION: Announcements for this hearing were previously published in 85 FR 48562.

Authority: 28 U.S.C. 2073.

Dated: January 4, 2021.
Rebecca A. Womeldorf,
Chief Counsel, Rules Committee Staff.

[FR Doc. 2021-00103 Filed 1-7-21; 8:45 am]

BILLING CODE 2210-55-P